DEPARTMENT OF ENERGY

Office of Energy Efficiency and Renewable Energy

[Docket No. EERE-2010-BT-BC-0012]

Building Energy Codes

AGENCY: Office of Energy Efficiency and Renewable Energy, Department of Energy.

ACTION: Request for Information.

SUMMARY: The U.S. Department of Energy (DOE) is soliciting information on how it can better assist the states to adopt, implement, enforce, and assess compliance with the current model building energy codes or their equivalent. DOE is interested in better understanding the barriers and issues involved and the needs, resources, materials and other technical assistance required to accomplish the goal of increased adoption and compliance with the latest model building energy codes, Standard 90.1-2007, Energy Standard for Buildings Except Low-Rise Residential Buildings (or equivalent), for commercial buildings and the 2009 International Energy Conservation Code (or equivalent) for low-rise residential buildings.

DOE is publishing this request for information to allow interested parties to provide suggestions, comments, and other information. This notice identifies several areas in which DOE is particularly interested in receiving information; however, any input and suggestions considered relevant to the topic are welcome.

DATES: Written comments and information are requested by May 21, 2010.

ADDRESSES: Interested persons may submit comments in writing, identified by docket number EERE-2010-BT-BC-0012, by any of the following methods:

• E-mail: HelpUpdateStateCodes@ee.doe.gov. Include EERE-2010-BT-BC-0012 in the subject line of the message.

• Mail: Ms. Brenda Edwards, U.S. Department of Energy, Building Technologies Program, Mailstop EE-2J, Building Energy Codes, 1000 Independence Avenue, SW., Washington, DC 20585-0121. Phone (202) 586-2945. Please submit one signed paper original.

• Hand Delivery/Courier: Ms. Brenda Edwards, U.S. Department of Energy, Building Technologies Program, 6th Floor, 950 L'Enfant Plaza, SW., Washington, DC 20024. Phone: (202) 586-2945. Please submit one signed paper original.

• Internet: http://www.energycodes.gov/HelpUpdateStateCodes. Please use the input form and complete all required fields.

• Instructions: All submissions received must include the agency name and docket number.

Docket: For access to the docket to read background documents, or comments received, visit the U.S. Department of Energy, Resource Room of the Building Technologies Program, 950 L'Enfant Plaza, SW., Suite 600, Washington, DC 20024, (202) 586-2945, between 9 a.m. and 4 p.m., Monday through Friday, except Federal holidays. Please call Ms. Brenda Edwards at the above telephone number for additional information regarding visiting the Resource Room.

FOR FURTHER INFORMATION CONTACT: Margo Appel or Jean Boulin, U.S. Department of Energy, Office of Energy Efficiency and Renewable Energy, Building Technologies Program, Mailstop EE-2J, 1000 Independence Avenue, SW., Washington, DC 20585-0121. Ms. Appel (202) 586-9495, e-mail: margo.appel@ee.doe.gov or Mr. Boulin (202) 586-9870, e-mail: jean.boulin@ee.doe.gov.

Christopher Calamita, U.S. Department of Energy, Office of the General Counsel, Forrestal Building, Mailstop GC-71, 1000 Independence Avenue, SW., Washington, DC 20585, Telephone: (202) 586-1777, e-mail: christopher.calamita@hq.doe.gov.

SUPPLEMENTARY INFORMATION:

Authority and Background

Any strategy to realize the goal of the President and the Secretary of Energy (Secretary)—to achieve 83-percent reductions in energy use by the year 2050—must address the energy performance of the buildings sector. Increases in stringency to building energy codes, along with increased adoption by states and localities and paired with rigorous compliance verification, can provide significant reductions in building energy use. This is consistent with section 304(d) and (e) of the Energy Conservation and Production Act which requires DOE to provide technical and financial assistance to states. (42 U.S.C. 6833(d) and (e))

A number of states are in the process of, or planning to, update, implement, and enforce their building energy codes. Further, many states will implement plans to assess and improve compliance with their updated codes, in response to assurances received by their governors in response to the American Recovery and Reinvestment Act of 2009 (Pub. L. 111-5), of which the Secretary was notified. This presents a unique opportunity to increase current efforts to ensure that states, municipalities, and local governments, are able to adopt the latest energy codes and increase compliance rates.

In view of the above, DOE believes it is important to provide interested parties with an opportunity to submit information they feel will assist DOE in compiling information.

Public Participation

A. Submission of Information

DOE will accept information in response to this notice under the timeline provided in the DATES section above. Information submitted to the Department by e-mail should be provided in WordPerfect, Microsoft Word, PDF, or text file format. Those responding should avoid the use of special characters or any form of encryption, and wherever possible, comments should include the electronic signature of the author. Comments submitted to the Department by mail or hand delivery/courier should include one signed original paper copy. No telefacsimiles will be accepted. Comments submitted in response to this notice will become a matter of public record and will be made publicly available.

B. Issues on Which DOE Seeks Information

DOE is particularly interested in receiving information on the following issues/topics:

(1) Problems, issues, and barriers to the adoption, implementation, enforcement, and improved compliance with improved building energy codes.

(2) Training needed for designers, builders, code officials, owners, and others to support upgraded codes to meet Standard 90.1-2007 (or code that achieves equivalent or greater energy savings) for commercial buildings and the 2009 IECC (or code that achieves equivalent or greater energy savings) for residential buildings. Training and assistance needed to develop and implement a plan to achieve compliance with upgraded codes by 2017.

(3) Processes, information, materials and tools necessary to upgrade building codes to meet Standard 90.1-2007, Energy Standard for Buildings Except Low-Rise Residential Buildings (or equivalent) for commercial buildings and the 2009 International Energy Conservation Code (or equivalent) for residential buildings. Information, materials, and tools necessary to develop and implement a plan to achieve 90-percent compliance with upgraded codes by 2017.

(4) Assistance and resources available from stakeholders, states, local jurisdictions, and others.

Issued in Washington, DC, on April 9, 2010.
Cathy Zoi,
Assistant Secretary, Energy Efficiency and Renewable Energy.

[FR Doc. 2010-9152 Filed 4-20-10; 8:45 am]

BILLING CODE 6450-01-P